DEPARTMENT OF HEALTH AND HUMAN SERVICES

Health Resources and Services Administration

Health Center Program

AGENCY: Health Resources and Services Administration, HHS.

ACTION: Notice of noncompetitive replacement awards to Regional Health Care Affiliates.

SUMMARY: The Health Resources and Services Administration (HRSA) will be transferring Health Center Program (section 330 of the Public Health Service Act) New Access Point (NAP) and Increased Demand for Service (IDS) funds originally awarded to Trover Health System to Regional Health Care Affiliates to ensure the provision of critical primary health care services to underserved populations in Webster and McLean Counties, Kentucky.

SUPPLEMENTARY INFORMATION: Former Grantee of Record: Trover Health System.

Original Period of Grant Support: March 1, 2009 to February 28, 2011 (NAP) and March 27, 2009 to March 26, 2011 (IDS).

Replacement Awardee: Regional Health Care Affiliates.

Amount of Replacement Awards: $1,300,000 (NAP) and $101,000 (IDS).

Period of Replacement Awards: The period of support for the replacement awards is March 1, 2009, to February 28, 2011 (NAP) and March 27, 2009, to March 26, 2009 (IDS).

Authority: Section 330 of the Public Health Service Act, 42 U.S.C. 245b.

CFDA Number: 93.703.

Justification for the Exception to Competition

Under the original grant applications approved by HRSA, Regional Health Care Affiliates (RHCA) was identified as the provider of health care services on behalf of the Trover Health System, while Trover Health System was to serve in an administrative capacity for the grants. After the awards were issued, Trover Health System and RHCA notified HRSA that RHCA's organizational structure had changed to enable it to carry out both administrative and programmatic requirements. The two parties requested that full responsibility for the grants be transferred from Trover Health System to RHCA. RHCA provided documentation that it meets Section 330 statutory and regulatory requirements as well as applicable grant management requirements.

Regional Health Care Affiliates will directly initiate primary health care services in Webster and McLean Counties to the more than 5,250 low income, underserved and uninsured individuals in the original service area, Webster and McLean Counties, KY, as had been proposed in funded grant applications.

Regional Health Care Affiliates can provide primary health care services immediately, is located in the same geographical area where the Trover Health System's primary health care services have been provided, and will be able to provide continuity of care to patients of the former grantee.

This underserved target population has an immediate need for vital primary health care services and would be negatively impacted by any delay caused by a competition. As a result, in order to ensure that critical primary health care services are available to the original target population in a timely manner, these replacement awards will not be competed.

FOR FURTHER INFORMATION CONTACT: Marquita Cullom-Stott via e-mail at MCullom-Stott@hrsa.gov or 301-594-4300.

Dated: December 10, 2009.
Mary K. Wakefield,
Administrator.

[FR Doc. E9-30010 Filed 12-16-09; 8:45 am]

BILLING CODE 4165-15-P